DEPARTMENT OF ENERGY

Federal Energy Regulatory Commission

[Project No. 14677-000]

Clark Canyon Hydro, LLC; Notice of Preliminary Permit Application Accepted for Filing and Soliciting Comments, Motions To Intervene, and Competing Applications

On April 21, 2015, Clark Canyon Hydro, LLC, filed an application for a preliminary permit, pursuant to section 4(f) of the Federal Power Act (FPA), proposing to study the feasibility of the Clark Canyon Dam Hydroelectric Project (Clark Canyon Dam Project or project) to be located at the U.S. Bureau of Reclamation's Clark Canyon Dam on the Beaverhead River, near Dillon, Beaverhead County, Montana. The sole purpose of a preliminary permit, if issued, is to grant the permit holder priority to file a license application during the permit term. A preliminary permit does not authorize the permit holder to perform any land-disturbing activities or otherwise enter upon lands or waters owned by others without the owners' express permission.

The proposed project would utilize the existing Clark Canyon Dam and would consist of the following: (1) A new 360-foot-long, 8-foot-diameter steel penstock within the existing concrete conduit, ending in a trifurcation; (2) two new 35-foot-long, 8-foot-diameter penstocks extending from the trifurcation to the powerhouse, transitioning to 6-foot-diameter before entering the powerhouse; (3) a new 10-foot-long, 8-foot-diameter steel penstock leaving the trifurcation and ending in a 7-foot-diameter cone value and reducer to control discharge into the existing outlet stilling basin; (4) a new 62.5-foot-long, 41-foot-wide reinforced concrete powerhouse containing two vertical Francis-type turbine/generator units rated for 2.35 megawatts each; (5) two new 17-foot-long, 15-foot-diameter tailrace channels connecting the pump/turbine draft tubes with the existing spillway stilling basin; (6) a new 1,100-foot-long, 4.16-kilovolt (kV) buried transmission line from the power house to the substation; (7) a new substation containing step-up transformers and switchgear; (8) a new 7.9-mile-long, 69-kV transmission line extending from the project substation to the Peterson Flat substation (the point of interconnection); and (9) appurtenant facilities. The estimated annual generation of the Clark Canyon Dam Project would be 15.4 gigawatt-hours.

Applicant Contact: Mr. David Boyter, NW Engineering Services, P.C., 1680 Woodruff Park, Idaho Falls, Idaho 83401; phone: (208) 932-2720.

FERC Contact: Kelly Wolcott; phone: (202) 502-6480.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14677-000.

More information about this project, including a copy of the application, can be viewed or printed on the “eLibrary” link of Commission's Web site at http://www.ferc.gov/docs-filing/elibrary.asp. Enter the docket number (P-14677) in the docket number field to access the document. For assistance, contact FERC Online Support.

Dated: July 10, 2015.
Kimberly D. Bose,
Secretary.

[FR Doc. 2015-17439 Filed 7-15-15; 8:45 am]

BILLING CODE 6717-01-P